DEPARTMENT OF AGRICULTURE

Creation of a New Computer Matching Program That Will Expire on August 13, 2014

AGENCY: National Finance Center, United States Department of Agriculture.

ACTION: Notice of a Computer Matching Program (CMP).

SUMMARY: In accordance with the Privacy Act of 1974 (5 U.S.C. 552a), as amended by the Computer Matching and Privacy Protection Act of 1988 (Pub. L. 100-503), Office of Management and Budget (OMB) Guidelines on the Conduct of Matching Programs (54 FR 25818 published June 19, 1989), and OMB Circular No. A-130, revised November 28, 2000, the Department of Agriculture's (USDA) National Finance Center (NFC) is publishing notice of a computer matching program (CMP) that NFC will conduct on behalf of itself and the Office of Personnel Management (OPM) utilizing records from the Social Security Administration (SSA).

DATES: February 14, 2013 to August 13, 2014.

ADDRESSES: Anthony Priola, Associate Director, Government Insurance and Collection Directorate, National Finance Center, 13800 Old Gentilly Road, New Orleans, LA 70129.

FOR FURTHER INFORMATION CONTACT: Anthony Priola, (504) 426-1292.

SUPPLEMENTARY INFORMATION:

A. General

The Privacy Act (5 U.S.C. 552a), as amended, establishes the conditions under which computer matching involving the Federal government could be performed and adding certain protections for individuals applying for and receiving Federal benefits. It requires Federal agencies involved in computer matching programs to:

(1) Negotiate written agreements with the other agency for agencies participating in the matching programs;

(2) Obtain approval of the match agreement by the Data Integrity Boards (DIB) of the participating Federal agencies;

(3) Furnish detailed reports about matching programs to Congress and OMB;

(4) Notify applicants and beneficiaries that their records are subject to matching;

(5) Verify match findings before reducing, suspending, termination or denying and individual's benefits or payments.

B. NFC Computer Matching Program Subject to the Privacy Act

The purpose of this NFC Computer Matching Program is to verify applicant eligibility for the Pre-Existing Condition Insurance Plan (PCIP) implemented per the Patient Protection and Affordable Care Act (the PPACA; Pub. L. 111-148). Below is a detailed description of the matching program.

Notice of Computer Matching Program

NFC will match applicant records with SSA records to verify eligibility for PCIP. OPM will have access to the results of the CMP to adjudicate appeals to initial eligibility determinations.

A. Participating Agencies

The U.S. Department of Agriculture's National Finance Center (NFC), the U.S. Office of Personnel Management (OPM), and the Social Security Administration (SSA).

B. Purpose of the Matching Program

SSA will provide data to NFC for the purpose of enrolling eligible applicants in the PCIP, implemented under the PPACA. Section 1101 of the PPACA requires that an individual eligible for the PCIP must be a citizen or national of the United States or lawfully present in the United States. Under this Agreement, SSA will confirm the consistency against SSA records of certain information provided by NFC on applicants for the high risk pool (HRP) program under PPACA. OPM will have access to the results of the CMP to adjudicate applicant appeals to initial eligibility determinations.

C. Authority for Conducting the Matching Program

The legal authority for this match is section 1411(c)(2)(A)(i) and (ii) of the PPACA, section 1106 of the Social Security Act (42 U.S.C. 1306(b)), 5 U.S.C. 552a(b)(3) of the Privacy Act, and the regulations and guidance promulgated there under.

D. Categories of Records and Individuals Covered

Section 1101 of the PPACA requires that an individual eligible for PCIP must be a citizen or national of the United States or lawfully present in the United States. NFC will disclose applicant information to SSA from the U.S. Department of Health and Human Services' SOR 09-90-275, Pre-Existing Condition Insurance Plan system of records for the purpose of verifying citizenship status for PCIP.

SSA will match this information against the Master Files of SSN Holders and SSN Applications, SSA/OEEAS, 60-0058, full text published at 71 FR 1815 (January 11, 2006); the Master Beneficiary Record, SSA/ORSIS 60-0090, full text published at 71 FR 1826 (January 11, 2006); and Supplemental Security Income and Special Veterans Benefits SSA/ODSSIS, 60-0103, full text published at 71 FR 1826 (January 11, 2006).

E. Inclusive Dates of the Matching Program

This computer match will begin no sooner than 30 days from the date NFC publishes a Computer Matching Notice in the Federal Register or 30 days from the date copies of the approved agreement and the notice of the matching program are sent to the Congressional committee of jurisdiction under subsections (O)(2)(B) and (r) of the Privacy Act, as amended, or 30 days from the date the approved agreement is sent to the Office of Management and Budget, whichever is later, provided no comments are received which result in a contrary determination.

F. Address for Receipt of Public Comments

Individuals wishing to comment on this matching program should send comments to Mr. Anthony Priola at tony.priola@nfc.usda.gov, or use the mailing address listed under the Addresses heading.

Dated: February 14, 2013.
Kathleen A. Merrigan,
Deputy Secretary.

[FR Doc. 2013-03851 Filed 2-19-13; 8:45 am]

BILLING CODE 3410-91-P